DEPARTMENT OF THE INTERIOR

National Park Service

30-Day Notice of Submission to the Office of Management and Budget; Opportunity for Public Comment

AGENCY: Department of the Interior, National Park Service.

ACTION: Notice and request for comments.

SUMMARY: Under provisions of the Paperwork Reduction Act of 1995 and 5 CFR Part 1320, Reporting and Recordkeeping Requirements, the National Park Service (NPS) invites public comments on a proposed new collection of information (OMB #1024-XXXX).

DATES: Public comments on this Information Collection Request (ICR) will be accepted on or before September 10, 2007.

ADDRESSES: You may submit comments directly to the Desk Officer for the Department of the Interior (OMB #1024-XXXX), Office of Information and Regulatory Affairs, OMB, by fax at 202/395-6566, or by electronic mail at oira_docket@omb.eop.gov. Please also send a copy of your comments to Susan Johnson, Air Resources Division, NPS, 12795 W. Alameda Parkway, P.O. Box 25287, Denver, Colorado 80225; or electronically at Susan_Johnson@nps.gov.

FOR FURTHER INFORMATION CONTACT: Susan Johnson, Air Resources Division, NPS, 12795 W. Alameda Parkway, P.O. Box 25287, Denver, Colorado 80225; or via phone at 303/987-6694; or via fax at 303/969-2822; or via e-mail address at Susan_Johnson@nps.gov. You are entitled to a copy of the entire ICR package free-of-charge.

The NPS published a 60-Day Notice to solicit public comments on this ICR in the Federal Register on October 10, 2006 (Vol. 71, No. 195, Pages 59521-59522). The comment period closed on December 11, 2006. The NPS received one comment as a result of the publication of this 60-Day Federal Register Notice.

Comment: The commenter questioned why the visibility study was necessary. The commenter noted that regulations that protect air quality are already in place, but are not stringent enough or inadequately enforced. The commenter also added that the most important air quality-related issue is human health, particularly the health of children.

Response: Regulations to protect and improve air quality are currently in place, and new regulations may be proposed in the future. Periodic economic information is necessary to determine whether these regulations are efficient. Visibility is a valued component of air quality, but current information is outdated, and lacks the benefit of recent advances in measuring such values. The information proposed in this collection will assist regulators in making better-informed air policy decisions. Human health related issues are outside the purview of this proposed effort, but are well recognized as the predominant economic benefit of improved air quality.

SUPPLEMENTARY INFORMATION:

Title: Visibility Valuation in National Parks and Wilderness Areas: Pre-Test and Pilot Test.

Bureau Form Number(s): None.

OMB Number: To be requested.

Expiration Date: To be requested.

Type of Request: New Collection.

Description of Need: The Clean Air Act includes provisions designed to maintain and enhance visibility at national parks and wilderness areas (Sections 169A, 169B, and 110(a)(2)(j)). The NPS is directed by its Organic Act to “conserve the scenery * * * unimpaired for the enjoyment of future generations” (16 U.S.C. 1) and the Clean Air Act charges the NPS with an “affirmative responsibility to protect air quality related values (including visibility)” (42 U.S.C. 7475(d)(2)(B)). Therefore, the NPS believes it is imperative that the value of visibility changes is adequately represented in cost-benefit analyses related to State and Federal efforts that may affect visibility (including the Regional Haze Rule, 40 CFR Part 51). Although several studies were conducted to estimate visibility benefits in the 1970s and 1980s, methodologies for estimating the benefits of improvements in environmental goods have advanced signifcantly since that time. Furthermore, baseline visibility conditions in national parks and wilderness areas have changed significantly over the last few decades. As a result, updated estimates of benefits are required.

Current evaluation of Federal and state air quality legislation or regulations, as well as regional plans or policies that impact NPS-managed areas, is based on virility valuation information in Chestnut and Rowe, 1990 (e.g., see EPA, 2005). The vintage of this study aside, several limitations have been identified by regulators and stakeholders alike, including its limited sample frame (EPA, 2005; Leggett et al., 2004). Thus, the NPS seeks current visibility valuation information that will permit accurate evaluation of programs and policies affecting visibility in NPS-managed areas.

The NPS plans to conduct a nationwide stated preference survey to estimate the value of visibility changes in national parks and wilderness areas. Stated-preference surveys use carefully designed questions to elicit respondents' willingness to pay for improvements in environmental quality. A general population stated-preference survey is required in this case, as many U.S. citizens may be willing to pay to improve visibility at national parks and wilderness areas, even if they do not use these areas. Stated-preference surveys are the only methodology available to estimate these non-use values. But to ensure that the nationwide survey is unbiased and readily understood by respondents, and that the likely effect of non-response on benefit estimates is known, the pre-test and pilot test must first be conducted.

The pre-testing will be done through focus groups, which will be used to develop and refine a survey instrument for the pilot study. Twelve focus groups will be conducted, with approximately 10 participants in each group (120 in total). Thus, a sufficient number of responses will be gathered to evaluate the information presentation, reliability, internal consistency, response variability, and other properties of the draft survey. Results will be used to make improvements to the survey instrument. NPS will proceed iteratively, modifying the draft survey instrument after each focus group to ensure that the wording of the questions is clear and unbiased, and effectively address the relevant issues.

The pilot study will be designed to account for the potential impact of mail survey non-response on benefit estimates. The pilot study will involve a split-sample comparison between a mail and in-person survey. Respondents will be asked to complete the survey instrument developed during the pre-testing stage. The results will ultimately be used to adjust the benefit estimates obtained in the nationwide survey for potential non-response bias. The final content of the pilot survey instrument will depend on the pre-testing results. At a minimum, the survey will describe the characteristics of various visibility improvement programs and ask respondents to select a preferred program. The survey will also include socio-demographic questions and questions designed to evaluate the respondents' motivation in selecting a preferred program. Surveys will be conducted with approximately 800 individuals.

For this pilot study, 16 neighborhoods will be selected in two metropolitan areas (Phoenix, AZ and Syracuse, NY). Each neighborhood sample will be split into two groups, with 50 households assigned to a mail survey group and 50 households assigned to an in-person survey group. The in-person survey will be conducted in a manner that minimizes the differences between the two survey modes.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of collection: Once.

Description of Respondents: Residents of Atlanta, GA, Chicago, IL, Sacramento, CA (focus groups) and Phoenix, AZ and Syracuse, NY (response rate pilot study).

Estimated average number or respondents: Focus groups: 1,200 in recruitment and 120 in pre-testing activities. Pilot study: 480 mail refusals, 320 in-person refusals, and 800 respondents.

Estimated average number of responses: 920 (120 responses for focus groups; 800 responses for pilot study).

Estimated average time burden per respondent: 2.5 hours for focus group respondents, 20 minutes for pilot survey respondents.

Frequency of response: 1 time per respondent.

Estimated total annual reporting burden: 567 hours.

Dated: July 12, 2007.
Leonard E. Stowe,
NPS, Information Collection Clearance Officer.

[FR Doc. 07-3916 Filed 8-9-07; 8:45 am]

BILLING CODE 4312-52-M